DEPARTMENT OF COMMERCE

Foreign-Trade Zones Board

[S-88-2015]

Foreign-Trade Zone 22—Chicago, Illinois; Expansion of Subzone 22N; Michelin North America, Inc.; Wilmington, Illinois

An application has been submitted to the Foreign-Trade Zones Board (the Board) by the Illinois International Port District, grantee of FTZ 22, requesting an expansion of Subzone 22N on behalf of Michelin North America, Inc. (MNA). The application was submitted pursuant to the provisions of the Foreign-Trade Zones Act, as amended (19 U.S.C. 81a-81u), and the regulations of the Board (15 CFR part 400). It was formally docketed on June 9, 2015.

Subzone 22N was approved on April 5, 2006 (Board Order 1440, 71 FR 19692, 4-17-2006), and manufacturing was authorized within the subzone on February 28, 2007 (Board Order 1503, 72 FR 10642, 3-9-2007). The subzone currently consists of the following site: Site 1 (34.9 acres)—25850 S. Ridgeland Avenue, Monee, Will County.

This request would add a site (69.7 acres) located at 29900 South Graaskamp Boulevard in Wilmington, Will County, to the subzone. The applicant is also requesting that Site 1 be removed from the subzone following a transition period to allow merchandise to be transferred to the new site. No additional authorization for production activity has been requested at this time. With this request, Subzone 22N would be subject to the existing activation limit of FTZ 22.

In accordance with the Board's regulations, Elizabeth Whiteman of the FTZ Staff is designated examiner to review the application and make recommendations to the Executive Secretary.

Public comment is invited from interested parties. Submissions shall be addressed to the Board's Executive Secretary at the address below. The closing period for their receipt is July 27, 2015. Rebuttal comments in response to material submitted during the foregoing period may be submitted during the subsequent 15-day period to August 10, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: June 9, 2015.
Elizabeth Whiteman,
Acting Executive Secretary.

[FR Doc. 2015-14644 Filed 6-12-15; 8:45 am]

BILLING CODE 3510-DS-P